DEPARTMENT OF TRANSPORTATION

Federal Motor Carrier Safety Administration

[Docket No. FMCSA-2017-0319]

Parts and Accessories Necessary for Safe Operation; Exemption Renewal for Agricultural and Food Transporters Conference of American Trucking Associations

AGENCY: Federal Motor Carrier Safety Administration (FMCSA), Department of Transportation (DOT).

ACTION: Notice of provisional renewal of exemption; request for comments.

SUMMARY: FMCSA announces its decision to provisionally renew an exemption requested by the Agricultural and Food Transporters Conference (AFTC) of American Trucking Associations (ATA), which will allow certain alternative methods for the securement of agricultural commodities transported in wood and plastic boxes and bins and large fiberglass tubs, as well as hay, straw, and cotton bales that are grouped together into large singular units. The exemption is renewed for 6 months, unless revoked earlier.

DATES: This renewed exemption is effective April 15, 2024, through October 15, 2024, unless revoked earlier. Comments must be received on or before July 18, 2024.

ADDRESSES: You may submit comments identified by docket number FMCSA-2017-0319 using any of the following methods:

• Federal eRulemaking Portal: Go to https://www.regulations.gov/docket/FMCSA-2017-0319/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m. ET, Monday through Friday, except Federal holidays.

• Fax: (202) 493-2251.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation and Request for Comments

A. Submitting Comments

If you submit a comment, please include the docket number for this notice (FMCSA-2017-0319), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to https://www.regulations.gov/docket/FMCSA-2017-0319/document, click on this notice, click “Comment,” and type your comment into the text box on the following screen. Choose whether you are submitting your comment as an individual or on behalf of a third party and then submit.

If you submit your comments by mail or hand delivery, submit them in an unbound format, no larger than 8 ½ by 11 inches, suitable for copying and electronic filing.

If you submit comments by mail and would like to know that they reached the facility, please enclose a stamped, self-addressed postcard or envelope.

FMCSA will consider all comments and material received during the comment period. Comments received after the comment closing date will be filed in the public docket and will be considered to the extent practicable.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

B. Viewing Comments and Documents

To view any documents mentioned as being available in the docket, go to https://www.regulations.gov/docket/FMCSA-2017-0319/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

C. Privacy

In accordance with 49 U.S.C. 31315(b)(6), DOT solicits comments from the public to better inform its exemption process. DOT posts these comments, including any personal information the commenter provides, to www.regulations.gov as described in the system of records notice DOT/ALL 14 (Federal Docket Management System (FDMS)), which can be reviewed under the “Department Wide System of Records Notices” at https://www.transportation.gov/individuals/privacy/privacy-act-system-records-notices. The comments are posted without edit and are searchable by the name of the submitter.

II. Legal Basis

FMCSA has authority under 49 U.S.C. 31136(e) and 31315(b)(2) and 49 CFR 381.300(b) to renew an exemption from the FMCSRs for subsequent periods of up to 5 years if it finds that such exemption would likely maintain a level of safety that is equivalent to, or greater than, the level that would be achieved by the current regulation (49 CFR 381.305(a)).

III. Background

On September 27, 2002, FMCSA introduced new cargo securement regulations to require motor carriers to change the way they use cargo securement devices to prevent articles from shifting on or within or falling from commercial motor vehicles effective December 26, 2002, with a compliance date of January 1, 2004 (67 FR 61212). The cargo securement rules consist of general rules that apply to all types of cargo, with exceptions (49 CFR 393.100-393.114), as well as commodity-specific rules for cargo requiring specialized securement methods (49 CFR 393.116-393.136). Commodity-specific rules are in addition to general rules, meaning cargo securement systems must meet both general and commodity-specific requirements. In a letter dated December 17, 2015, the Agricultural and Food Transporters Conference (AFTC) of the American Trucking Associations (ATA) stated that strict application of the 2002 requirements would have resulted in a less secure agricultural commodity securement environment and highlighted the absence of commodity-specific rules for transporting agricultural commodities in wood and plastic containers, large fiberglass tubs, or grouped hay, straw, and cotton bales.¹

¹ Letter dated December 17, 2015, requesting 5-year temporary exemption from cargo securement requirements at 49 CFR 393.102, 106, 110, and 114 for transport of agricultural products. (Available on regulations.gov at document identifier FMCSA-2017-0319-0002).

Testing of Alternative Securement Methods

In response to concerns raised by agricultural commodities shippers, FMCSA commissioned the Department of Transportation's Volpe Center to develop a comprehensive test plan to assess whether the alternative securement methods allowed by the California Highway Patrol (CHP) and other industry practices could meet FMCSA's cargo securement standards for agricultural commodities, focusing on protection against shifting and falling cargo, as outlined in the 2002 final rule. Volpe conducted a nationwide review of state regulations and industry practices related to the transportation of various agricultural commodities by commercial motor vehicles (CMVs) and issued a final report.²

² U.S. Department of Transportation Federal Motor Carrier Safety Administration (FMCSA), FMCSA-PSV-14-013, Evaluation of Cargo Securement of Agri Commodities (January 2018) (available on www.regulations.gov at document identifier FMCSA-2017-0319-0003).

In November 2007, FMCSA, and Volpe, in cooperation with CHP and certain agricultural and trucking organizations, tested agricultural industry securement practices. The testing process involved lifting semitrailers to simulate various forces acting on the cargo, such as sudden accelerations, decelerations, and lateral forces during turns. Commercial semitrailers and those with converter dollies were used for testing each cargo securement method. The purpose of the test was to compare the performance of different securement methods against FMCSA's performance criteria.

The findings of the testing were summarized as follows:

• Standard agricultural commodity cargo securement practices effectively “unitize” individual components into a single cargo unit. Adding welded or bolted blocking at the front of the trailer proves highly effective for plastic and wooden bins. Lateral cargo securement devices significantly improve longitudinal and lateral cargo securement.

• The optimal method for securing agricultural commodities in plastic bins involves a combination of perimeter wire rope tiedowns and corner irons. Lateral cargo securement devices are essential for controlling lateral movement.

• Corner irons and wire rope techniques effectively unitize bins and reduce individual unit movement. Additional blocking, such as angle iron secured with bolts, effectively restricts cargo movement during longitudinal testing.

• Lateral cargo securement devices are necessary to minimize movement at the center of the load. The Washington Wrap style of securement at the rear of the load may damage the structural integrity of plastic bins and allow significant lateral movement, affecting vehicle stability.

• Although not tested, the industry practice of securing cotton bales appears effective through longitudinal wire rope and lateral rope addition.

Original Exemption Application From Specific Cargo Securement Regulations

In 2015, AFTC applied for an exemption from specific cargo securement regulations (49 CFR 393.102, 393.106, 393.110, and 393.114) to allow alternative methods for securing agricultural commodities transported in wood and plastic boxes and bins, large fiberglass tubs, and hay, straw, and cotton bales grouped into large single units. AFTC stated that agricultural haulers in California had relied on yearly exemptions from CHP which permitted the continued use of traditional cargo securement methods for transporting agricultural products. These exemptions were granted due to concerns that strictly enforcing FMCSA's 2002 cargo securement requirements would have created a less effective environment for securing agricultural commodities.

AFTC's exemption application cited the results of the 2007-2008 tests conducted jointly by FMCSA, CHP, the California Department of Food and Agriculture, the California Trucking Association and several AFTC members. The tests evaluated methods for securing a wide variety of agricultural products, including the use of plastic and wood bins, large fiberglass tubs, and hay and cotton bales. The results demonstrated the need for methods specific to the unique behavior of grouped agricultural commodities.³

³ FMCSA Memorandum: Technical Review Industry Cargo Securement Practices for Baled Hay and Straw (“FMCSA Tech Review Memo”) (Jul. 7, 2008) (available at: https://www.chp.ca.gov/CommercialVehicleSectionSite/Documents/TechReviewHayStraw.pdf and on www.regulations.gov at document identifier FMCSA-2017-0319-0005).

AFTC sought alternative securement methods for boxes, bins, and tubs that are specifically designed to transport agricultural products from the field or storage to the initial processing point, as well as for the return or delivery of empty containers to the field or storage location. Moreover, AFTC also noted that loads transported in vans or those contained within four-sided racks, or for purposes other than agricultural operations as outlined above, must adhere to the general cargo securement regulations stated in 49 CFR 393.100-393.114.

AFTC explained that the unique nature of agricultural commodities often requires them to be into larger single units which exhibit distinct behavior when subjected to the performance requirements in 49 CFR 393.102.

AFTC stated that without the exemption, CMV operators nationwide would lack access to proven alternative securement techniques and California haulers would be forced to continue requesting annual cargo securement exemptions from CHP. Specifically, AFTC stated that the exemption would enhance safety because the alternative securement methods it proposed exceed the cargo securement standards, both of 49 CFR 393.100-393.114 and the California exemptions the industry had been relying upon.

2019 Notice of Final Disposition; Grant of Application for Exemption

On April 15, 2019, FMCSA determined that granting the temporary exemption to allow alternative securement methods for agricultural commodities would likely result in a level of safety equivalent to, or greater than, the level achieved without the exemption. (84 FR 15279)The testing conducted in 2007 and 2008 demonstrated that the alternative securement practices proposed by AFTC met the performance requirements of 49 CFR 393.102.

FMCSA acknowledged that the cargo securement techniques for large and small hay and straw bales, evaluated in the draft cargo securement testing report, were previously addressed in a “Technical Review of Industry Cargo Securement Practices for Baled Hay and Straw, Revision1,” dated July 7, 2008.⁴ FMCSA also referred to the “Evaluation of 2002 Final Rule Cargo Securement for Agricultural Commodities” final report, as explained earlier in the document, to determine that alternative securement methods are needed that are unique to certain agricultural commodity cargoes.

⁴ See FMCSA Tech Review Memo, available at: https://www.chp.ca.gov/CommercialVehicleSectionSite/Documents/TechReviewHayStraw.pdf.

2023 Application for Renewal of Exemption

AFTC has requested a 5-year renewal of the current exemption. In its renewal application, AFTC reiterated the arguments supporting its original exemption request. AFTC further noted that since the 2019 exemption was granted, the alternative methods for the securement of agricultural commodities transported in wood and plastic boxes and bins and large fiberglass tubs, as well as hay, straw, and cotton bales that are grouped together into large singular units, has been successful. A copy of AFTC's request to renew the exemption is available in the docket.

Crash and Inspection Data of Trucks With Cargo

FMCSA's Motor Carrier Management Information System (MCMIS) collects a variety of data on motor carrier violations during inspections and crash reports, with most of the data focusing on either driver, vehicle or carrier compliance. There is little or no data on the type of cargo being carried at the time of a crash. MCMIS does, however, collect data on whether a crash happened because cargo fell off the carrier or whether a carrier hit loose cargo on the roadways. This data does not specifically identity lost cargo that caused a crash as an agricultural commodity. The agency performed inspection violations data analysis for the cargo securement requirements of 49 CFR 393.102, 393.106, 393.110 and 393.114 to understand if there was greater proportion of violations involving agricultural cargo compared to all other types of cargo. The data showed that in total, less than 0.35 percent of all violations were attributed to the cargo securement of agricultural commodities in the period between 2020 and thus far into 2024. There is no crash data to indicate whether shifting or falling of an agricultural commodity within or off the vehicle is the primary cause of crash.

IV. Equivalent Level of Safety Analysis

Based on the above analysis, FMCSA is not aware of any evidence showing that the operation of the alternative securement methods allowed by the original exemption has resulted in any degradation in safety. Moreover, the information provided by AFTC in its renewal application supports the conclusion that these alternative securement methods maintain the requisite statutory level of safety. Therefore, for the reasons discussed above and in the prior notice granting the original exemption request, while Agency receives and considers comments on the renewal request, FMCSA concludes that provisionally renewing the exemption granted on April 15, 2019, for an additional 6 months, on the terms and conditions set forth in this exemption renewal decision, would likely maintain a level of safety that is equivalent to, or greater than, the level of safety achieved without the exemption.

V. Exemption Decision

A. Grant of Exemption

FMCSA provisionally renews the exemption for a subsequent period of 6 months, instead of the 5 years requested by AFTC, subject to the terms and conditions of this decision and the absence of adverse evidence sufficiently serious to cause the Agency to revoke the exemption. FMCSA anticipates granting a full 5-year exemption from the requirements of 49 CFR 393.102, 393.106, 393.110, and 393.114 when the provisional exemption expires, unless the Agency obtains evidence demonstrating that the exemption would not likely maintain an equivalent level of safety as the existing regulations.

B. Applicability of Exemption

During the provisional exemption period, motor carriers operating CMVs may utilize certain alternative methods for the securement of agricultural commodities transported in wood and plastic boxes and bins and large fiberglass tubs, as well as hay, straw, and cotton bales that are grouped together into large singular units, as proposed by AFTC in its original exemption application.

C. Terms and Conditions

1. General:

• Motor carriers and CMVs operating under this exemption must comply with all other applicable FMCSRs (49 CFR parts 350-399), unless specifically exempted from a requirement.

2. Limitation of Exemption:

• This exemption applies exclusively to CMVs transporting agricultural commodities in wood and plastic boxes and bins and large fiberglass tubs, as well as hay, straw, and cotton bales that are grouped together into large singular units.

3. Recurring Data Reporting Requirements:

• AFTC must provide recurring yearly data submissions to include information on crashes and incidents involving a CMVs transporting agricultural commodities in wood and plastic boxes and bins and large fiberglass tubs, as well as hay, straw, and cotton bales that are grouped together into large singular units. The first submission is due 5 months after the date of publication of this exemption renewal in the Federal Register, and, if the exemption is extended, subsequent submissions are due every 12-months thereafter until the exemption expires or is revoked.

• The yearly data submissions must be sent via email to FMCSA at MCPSD@dot.gov.

• If AFTC lacks certain categories of information, alternative information may be discussed with FMCSA and submitted if approved.

4. Data Reporting Requirements for Crashes and Incidents:

• At the end of each 12-month period, AFTC must submit a report detailing crash rates, vehicle miles traveled, number and type of CMVs operating under the exemption, information including dates of the crash or incident, time, location, and a brief description of the event.

• AFTC must provide any available information indicating malfunction of the alternative cargo securement methods.

5. Meetings:

• AFTC must meet with FMCSA upon request to answer questions regarding data and information provided under the exemption.

D. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

E. Revocation

The exemption will be valid for 6 months as provided in section V.A. above, unless revoked earlier by FMCSA. FMCSA does not believe that motor carriers, drivers, and CMVs covered by the exemption will experience any deterioration of safety below the level that would be achieved without the exemption. However, should the exemption result in a lower level of safety than was maintained before it was granted, FMCSA will take all steps necessary to protect the public interest, including revocation of the exemption without prior notice. The exemption will be immediately revoked if: (1) motor carriers, drivers, and/or CMVs fail to comply with the terms and conditions of the exemption; (2) the exemption has resulted in a lower level of safety than was maintained before it was granted; or (3) continuation of the exemption would not be consistent with the goals and objectives of 49 U.S.C. 31136 or chapter 313.

Interested parties possessing information that would demonstrate that this exemption or motor carriers operating CMVs utilizing certain alternative methods for the securement of agricultural commodities transported in wood and plastic boxes and bins and large fiberglass tubs, as well as hay, straw, and cotton bales that are grouped together into large singular units are not achieving the requisite statutory level of safety should immediately notify FMCSA by email at MCPSV@DOT.GOV. The Agency will evaluate any such information and, if safety is being compromised or if the continuation of the exemption is not consistent with the goals and objectives of 49 U.S.C. 31136 or chapter 313, will take immediate steps to revoke the exemption.

VI. Request for Comments

In accordance with 49 U.S.C. 31315(b), FMCSA requests public comment from all interested persons on AFTC's application for renewal of the exemption from 49 CFR 393.102, 393.106, 393.110, and 393.114. All comments received before the close of business on the comment closing date indicated at the beginning of this notice will be considered and will be available for examination in the docket at the location listed under the Addresses section of this notice. Comments received after the comment closing date will be filed in the public docket and will be considered to the extent practicable. In addition to late comments, FMCSA will also continue to file, in the public docket, relevant information that becomes available after the comment closing date. Interested persons should continue to examine the public docket for new material.

Sue Lawless,
Acting Deputy Administrator.

[FR Doc. 2024-13324 Filed 6-17-24; 8:45 am]

BILLING CODE 4910-EX-P